DEPARTMENT OF HOMELAND SECURITY

Coast Guard

33 CFR Part 117

[Docket No. USCG-2012-0176]

Drawbridge Operation Regulations; Atlantic Intracoastal Waterway, Fort Lauderdale, FL

AGENCY: Coast Guard, DHS.

ACTION: Notice of temporary deviations from regulations.

SUMMARY: The Commander, Seventh Coast Guard District, has issued temporary deviations from the regulations governing the operation of the following two bridges that span across the Atlantic Intracoastal Waterway in Fort Lauderdale, Florida: The East Sunrise Boulevard (SR 838) Bridge, mile 1062.6; and the East Las Olas Bridge, mile 1064. The deviations are necessary due to the high volume of vessel and vehicle traffic anticipated during the Lauderdale Air Show. With the exception of opening for passage of public vessels of the United States, vessels in distress, and tugs with tows, the bridges will not open in the evening during during the Lauderdale Air Show.

DATES: These deviations are effective from 4 p.m. on April 28, 2012 through 6 p.m. on April 29, 2012.

ADDRESSES: Documents mentioned in this preamble as being available in the docket are part of docket USCG-2012-0176 and are available online by going to http://www.regulations.gov, inserting USCG-2012-0176 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: The City of Fort Lauderdale Police Department has requested temporary modifications to the operating schedules of the East Sunrise Boulevard (SR 838) Bridge and the East Las Olas Bridge in Fort Lauderdale, Florida.

The Lauderdale Air Show generates a high volume of vessel and vehicle traffic. In past years, opening these bridges has resulted in significant vehicle congestion. By allowing the bridges to remain closed to navigation from 4 p.m. until 6 p.m. during the Lauderdale Air Show, traffic congestion will be reduced.

The details and regular operating schedule for each bridge are set forth below.

1. East Sunrise Boulevard (SR 838) Bridge, mile 1062.6. The vertical clearance of the East Sunrise Boulevard (SR 838) Bridge, across the Atlantic Intracoastal Waterway, is 21 feet. The normal operating schedule for the East Sunrise Boulevard (SR 838) Bridge is set forth in 33 CFR 117.261(bb)(6) requires the draw to open on the hour and half-hour. On the first weekend in May, the draw need not open from 4 p.m. to 6 p.m. on Saturday and Sunday, and, on the first Saturday in May, the draw need not open from 9:45 p.m. to 10:45 p.m.

2. East Las Olas Bridge, mile 1064. The vertical clearance of the East Las Olas Bridge, across the Atlantic Intracoastal Waterway, is 24 feet. The normal operating schedule for the East Last Olas Bridge is set forth in 33 CFR 117.261(bb)(7) and requires the bridge to open on the quarter-hour and three-quarter hour. On the first weekend in May, the draw need not open from 4 p.m. to 6 p.m. on Saturday and Sunday, and, on the first Saturday in May, the draw need not open from 9:45 p.m. to 10:45 p.m.

As a result of these temporary deviations, the East Sunrise Boulevard (SR 838) Bridge and the East Las Olas Bridge will remain closed to navigation from 4 p.m. to 6 p.m. on Saturday, April 28, 2012 and Sunday, April 29, 2012. However, the drawspans will open as soon as possible at any time for the passage of public vessels of the United States, vessels in distress, and tugs with tows.

In accordance with 33 CFR 117.35(e), the drawbridges must return to their regular operating schedules immediately at the end of the designated time period. These deviations from the operating regulations are authorized under 33 CFR 117.35.

Dated: March 6, 2012.
B.L. Dragon,
Bridge Program Director, Seventh Coast Guard District.

[FR Doc. 2012-8874 Filed 4-12-12; 8:45 am]

BILLING CODE 9110-04-P